DEPARTMENT OF LABOR

Office of the Secretary

Agency Information Collection Activities; Submission for OMB Review; Comment Request; Regulations Governing Longshore and Harbor Workers' Compensation Act Administration

ACTION: Notice.

SUMMARY: The Department of Labor (DOL) is submitting the Office of Workers' Compensation Programs (OWCP) sponsored information collection request (ICR) revision titled, “Regulations Governing Longshore and Harbor Workers' Compensation Act Administration,” to the Office of Management and Budget (OMB) for review and approval for use in accordance with the Paperwork Reduction Act (PRA) of 1995 (44 U.S.C. 3501 et seq.).

DATES: Submit comments on or before July 30, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, 725 17th Street NW., Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The OWCP administers the Longshore and Harbor Workers' Compensation Act (LHWCA). The LHWCA provides benefits to workers injured in maritime employment on the navigable waters of the U.S. or in an adjoining area customarily used by an employer in loading, unloading, repairing, or building a vessel. In addition, several acts extend Longshore Act coverage to certain other employees. Regulations sections 20 CFR 702.111, -.162, -.174, -.175, -.201, -.202, -.242, -.285, -.285, -.310, and -.321 and Forms LS-200, LS-201, LS-203, LS-204, LS-262, LS-267, LS-271, LS-274, and LS-513 cover the submission of information relating to the processing of claims for benefits under the Longshore Act and extensions. This ICR has been characterized as a revision under the PRA for technical reasons. The agency has reformatted elements of the forms (e.g., replaced an obsolete logo with the DOL Seal and removed references to the no longer existent Employment Standards Administration). Those changes should not affect respondent information collection burden.

These information collections are subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1240-0014. The current approval is scheduled to expire on June 30, 2012; however, it should be noted that existing information collection requirements submitted to the OMB receive a month-to-month extension while they undergo review. For additional information, see the related notice published in the Federal Register on April 17, 2012 (77 FR 22806).

Interested parties are encouraged to send timely comments to the OMB, Office of Information and Regulatory Affairs at the address shown in the ADDRESSES section of this notice. In order to help ensure appropriate consideration, comments should mention OMB Control Number 1240-0014. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Regulations Governing Longshore and Harbor Workers' Compensation Act Administration.

Affected Public: Individuals or Households and Private Sector—businesses or other for-profits.

Total Estimated Number of Respondents: 130,036.

Total Estimated Number of Responses: 130,036.

Total Estimated Annual Burden Hours: 44,950.

Total Estimated Annual Other Costs Burden: $727,417.

Dated: June 25, 2012.
Michel Smyth,
Departmental Clearance Officer.

[FR Doc. 2012-15934 Filed 6-28-12; 8:45 a.m.]

BILLING CODE 4510-CF-P